DEPARTMENT OF COMMERCE

Recruitment of First Responder Network Authority Board Members

AGENCY: National Telecommunications and Information Administration, U.S. Department of Commerce.

ACTION: Notice.

SUMMARY: The National Telecommunications and Information Administration (NTIA) issues this Notice to initiate the annual process of seeking expressions of interest from individuals who would like to serve on the Board of the First Responder Network Authority (“FirstNet Authority Board” or the “Board”). The term for one of the twelve non-permanent members of the FirstNet Authority Board will be available for appointment or reappointment in 2025. Additionally, one of the 12 non-permanent members to the FirstNet Authority Board resigned prior to the end of her term. The Secretary of Commerce will appoint an individual to complete that Board member's three-year term through September 2027. This Notice will apply for any other vacancies that may occur in 2025.

DATES: To be considered for the calendar year 2025 appointments, expressions of interest must be electronically transmitted on or before June 2, 2025.

ADDRESSES: Applicants should submit expressions of interest as described below to Michael Dame, Associate Administrator, Office of Public Safety Communications, National Telecommunications and Information Administration, by email to FirstNetBoardApplicant@ntia.doc.gov.

FOR FURTHER INFORMATION CONTACT: Michael Dame, Associate Administrator, Office of Public Safety Communications, National Telecommunications and Information Administration; telephone: (202) 482-1181; email: mdame@ntia.gov. Please direct media inquiries to NTIA's Office of Public Affairs at press@ntia.gov.

SUPPLEMENTARY INFORMATION:

I. Background and Authority

The Middle-Class Tax Relief and Job Creation Act of 2012 (Act) created the First Responder Network Authority (FirstNet Authority) as an independent authority within NTIA. The Act charged the FirstNet Authority with ensuring the building, deployment, and operation of a nationwide, interoperable public safety broadband network based on a single, national network architecture.¹ The FirstNet Authority holds the single nationwide public safety license granted for wireless public safety broadband deployment. The FirstNet Authority Board is responsible for providing overall policy direction and oversight of the FirstNet Authority to ensure that the nationwide network continuously meets public safety needs.

¹ 47 U.S.C. 1422(b).

II. Structure

The FirstNet Authority Board is composed of 15 voting members. The Act names the Secretary of Homeland Security, the Attorney General of the United States, and the Director of the Office of Management and Budget as permanent members. The Secretary of Commerce (Secretary) appoints 12 non-permanent members.²

² 47 U.S.C. 1424(b).

The Act requires each Board member to have experience or expertise in at least one of the following substantive areas: public safety, network, technical, and/or financial.³ Additionally, the composition of the FirstNet Authority Board must satisfy the other requirements specified in the Act, including that: (i) at least three members have served as public safety professionals; (ii) at least three members represent the collective interests of states, localities, tribes, and territories; and (iii) its members reflect geographic and regional, as well as rural and urban, representation.⁴ An individual Board member may satisfy more than one of these requirements. The current non-permanent FirstNet Authority Board members are (noting expiration of term):

³ 47 U.S.C. 1424(b)(2)(B).

⁴ 47 U.S.C. 1424(b)(2)(A).

• Vacant, formerly filled by Keisha Lance Bottoms, resigned (Term expires: September 2027)

• Vice Chair Renee Gordon, Director, Department of Emergency and Customer Communications, Alexandria, VA (Term expires: September 2025)

• Michael Adkinson Jr., Sheriff, Walton County, FL (Term expires: September 2027)

• Damon Darsey, Medical Director, Mississippi Department of Public Safety | CEO, Paladin Emergency Services Consulting (Term expires: September 2027)

• Eric Gaull, Emergency Manager, First Responder, Technology Consultant (Term expires: September 2027)

• Sean McDevitt, Partner, Arthur D. Little (Term expires: September 2027)

• Warren Mickens, Retired Technology Executive (Term expires: September 2027)

• Jocelyn Moore, Board Member for Omaze, OppFi, and DraftKings (Term expires: September 2027)

• Alexandra Fernandez Navarro, Former Associate Member, Puerto Rico Public Service Regulatory Board (Term expires: September 2027)

• Jeffrey Norman, Chief of Police, Milwaukee, WI (Term expires: September 2027)

• Rasheid Scarlett, CEO, NetAesthetics (Term expires: September 2027)

• Trisha Wolford, Fire Chief, Anne Arundel County Fire Department, MD (Term expires: September 2027)

Any Board member whose term has expired may serve until such member's successor has taken office, or until the end of the calendar year when such member's term has expired, whichever is earlier.⁵ Board members will be appointed for a term of three years. They may not serve more than two consecutive full three-year terms.⁶ More information about the FirstNet Authority Board is available at www.firstnet.gov/about/Board. Since one appointment in 2025 will be filling a mid-term vacancy, that newly appointed member will complete the existing term as a board member until September 2027.

⁵ 47 U.S.C. 1424(c)(2)(B).

⁶ 47 U.S.C. 1424(c)(2)(A)(ii).

III. Compensation and Status as Government Employees

FirstNet Authority Board members are appointed as government employees. FirstNet Authority Board members are compensated at the daily rate of basic pay for level IV of the Executive Schedule (approximately $195,200 per year) for each day worked ($748.24 per day) on the FirstNet Authority Board.⁷ Board members work intermittent schedules and may not work more than 130 days per year during their term. Each Board member must be a United States citizen, cannot be a registered lobbyist, and cannot be a registered agent of, employed by, or receive payments from, a foreign government.⁸

⁷ 47 U.S.C. 1424(g).

⁸ See Revised Guidance on Appointment of Lobbyists to Federal Advisory Committees, Boards, and Commissions, Office of Management and Budget, 79 FR 47482 (Aug. 13, 2014).

IV. Financial Disclosure and Conflicts of Interest

FirstNet Authority Board members must comply with certain federal conflict of interest statutes and ethics regulations, including some financial disclosure requirements. A FirstNet Authority Board member will generally be prohibited from participating in any FirstNet Authority matter that will have a direct and predictable effect on his or her personal financial interests or on the interests of the appointee's spouse, minor children, or non-federal employer.

V. Selection Process

At the direction of the Secretary, NTIA will conduct outreach to the public safety community, state and local organizations, and industry to solicit nominations for candidates to the Board who satisfy the statutory requirements for membership. In addition, through NTIA, the Secretary will accept expressions of interest from any individual or organization proposing a candidate who satisfies the statutory requirements for membership on the FirstNet Authority Board. To be considered for a calendar year 2025 appointment, expressions of interest must be electronically transmitted on or before June 2, 2025.

All parties submitting an expression of interest should submit the candidate's: (i) full name, title, organization, address, telephone number, and email address; (ii) current resume; (iii) brief biography; (iv) statement of qualifications that references how the candidate satisfies the Act's expertise, representational, and geographic requirements for FirstNet Authority Board membership, as described in this Notice; and (v) a statement describing why the candidate wants to serve on the FirstNet Authority Board, affirming their ability and availability to take a regular and active role in the Board's work.

The Secretary will select FirstNet Authority Board candidates based on the Act's eligibility requirements and NTIA's recommendations. NTIA will recommend candidates based on an assessment of qualifications and demonstrated ability to work collaboratively to achieve the goals and objectives of the FirstNet Authority as set forth in the Act. NTIA may consult with FirstNet Authority Board members or executives to make its recommendation. Board candidates will be vetted through the Department of Commerce and are subject to an appropriate background check for security clearance.

Dated: April 28, 2025.
David Brodian,
Chief Counsel, National Telecommunications and Information Administration.

[FR Doc. 2025-07599 Filed 4-30-25; 8:45 am]

BILLING CODE 3510-WL-P